DEPARTMENT OF HEALTH AND HUMAN SERVICES

National Institutes of Healh

National Institute of Child Health and Human Development; Amended Notice of Meeting

Notice is hereby given of a change in the meeting of the National Advisory Child Health and Human Development Council, June 10, 2004, 8:30 a.m. to June 11, 2004, 1 p.m., National Institutes of Health, Building 31, 31 Center Drive, Bethesda, MD, 20892 which was published in the Federal Register on May 17, 2004, 69 FR 27935-27936.

The meeting will be held on June 10, 2004 from 8:30 a.m. to adjournment. The meeting is partially Closed to the public.

Dated: June 10, 2004.
LaVerne Y. Stringfield,
Director, Office of Federal Advisory Committee Policy.

[FR Doc. 04-13884 Filed 6-18-04; 8:45 am]

BILLING CODE 4140-01-M